ENVIRONMENTAL PROTECTION AGENCY

[FRL-9945-20-OA]

Notification of Public Teleconference of the Farm, Ranch, and Rural Community Federal Advisory Committee (FRRCC)

AGENCY: Environmental Protection Agency (EPA).

ACTION: Notice of meeting.

SUMMARY: Under the Federal Advisory Committee Act, Public Law 92-463, the Environmental Protection Agency (EPA) hereby provides notice of a teleconference of the Farm, Ranch, and Rural Communities Committee (FRRCC). This teleconference is open to the public. Members of the public are encouraged to provide comments relevant to the specific issues being considered by the FRRCC.

DATES: The public teleconference will be held from noon to 2:00 p.m. (Eastern Time); 11:00 a.m. to 1:00 p.m. (Central Time); 10:00 a.m. to noon (Mountain Time); 9:00 a.m. to 11:00 a.m. (Pacific Time) on April 28, 2016.

Location: The presentation will be available through adobe connect and audio will be available through a teleconference number that will be available to public participants by contacting Donna Perla.

FOR FURTHER INFORMATION CONTACT: Any member of the public who wants further information concerning this public teleconference may contact Donna Perla, U.S. Environmental Protection Agency, Office of the Administrator (MC1101A), 1200 Pennsylvania Avenue NW., Washington, DC 20460; via email at perla.donna@epa.gov, or via telephone at 202-564-0184. General information concerning the EPA FRRCC can be found at http://www2.epa.gov/faca/frrcc.

SUPPLEMENTARY INFORMATION: Background: EPA established the Farm, Ranch, and Rural Communities Committee (FRRCC) in 2008 to provide independent policy advice, information, and recommendations to the Administrator on a range of environmental issues and policies that are of importance to agriculture and rural communities.

The purpose of this teleconference is to provide a briefing from two North Dakotan agricultural producers, (Mr. Mark Jennings and Mr. Rocklin Bateman, Supervisor of Morton County Soil Conservation District), on their adoption of soil health practices and their perspectives on resulting challenges and benefits.

Meeting Access: For information on access to this teleconference or services for individuals with disabilities, please contact Donna Perla at 202-564-0184 or perla.donna@epa.gov. If special accommodations are needed, please request them at least four working days prior to the teleconference, to allow sufficient time to process your request.

Dated: April 11, 2016.
Ron Carleton,
Counselor to the Administrator for Agricultural Policy.

[FR Doc. 2016-08914 Filed 4-18-16; 8:45 am]

BILLING CODE 6560-50-P